DEPARTMENT OF VETERANS AFFAIRS

[OMB Control No. 2900-XXXX]

Agency Information Collection Activity: Guaranteed or Insured Loan Reporting Requirements

AGENCY: Veterans Benefits Administration, Department of Veterans Affairs.

ACTION: Notice; withdrawal.

SUMMARY: On Wednesday, June 22, 2022 the Veterans Benefits Administration (VA), published a notice in the Federal Register announcing an opportunity for public comment on the proposed collection of Guaranteed or Insured Loan Reporting Requirements. This notice was published in error; therefore, this document corrects that error by withdrawing this FR notice, document number 2022-13257.

DATES: As of Thursday, June 23, 2022, the FR notice published at 87 FR 13257 on Wednesday, June 22, 2022, is withdrawn.

FOR FURTHER INFORMATION CONTACT: Maribel Aponte, Office of Enterprise and Integration, Data Governance Analytics (008), 1717 H Street NW, Washington, DC 20006, (202) 266-4688 or email maribel.aponte@va.gov.

SUPPLEMENTARY INFORMATION: FR Doc. 2022-13257, published on June 22, 2022, 87 FR 13257), is withdrawn by this notice.

By direction of the Secretary:

Maribel Aponte,
VA PRA Clearance Officer, Office of Enterprise and Integration/Data Governance Analytics, Department of Veterans Affairs.

[FR Doc. 2022-13761 Filed 6-27-22; 8:45 am]

BILLING CODE 8320-01-P